ENVIRONMENTAL PROTECTION AGENCY

[FRL-7785-7]

Environmental Laboratory Advisory Board (ELAB) Meeting Dates, and Agenda

AGENCY: Environmental Protection Agency (EPA).

ACTION: Notice of teleconference and face-to-face meetings.

SUMMARY: The Environmental Protection Agency's Environmental Laboratory Advisory Board (ELAB) will have teleconference meetings on August 18, 2004, at 1 p.m. e.d.t.; September 15, 2004, at 1 p.m. e.d.t.; October 20, 2004, at 1 p.m. e.d.t.; November 17, 2004, at 1 p.m. e.d.t.; and December 15, 2004, at 1 p.m. e.d.t. in addition to a face-to-face meeting on July 19, 2004, at 9 a.m. e.d.t. at the Wyndham Washington, DC, on 1400 M Street, NW., to discuss the ideas and views presented at the previous ELAB meetings, as well as new business. Items to be discussed include: Laboratory participation; environmental monitoring issues; homeland security; follow-up on draft language on ELAB's past recommendations on EPA reference methods; performance based measurement systems; and outreach. Written comments on NELAP laboratory accreditation and the NELAC standards are encouraged and should be sent to Ms. Lara P. Autry, DFO, US EPA (E243-05), 4930 Old Page Road, Research Triangle Park, NC 27709, faxed to (919) 541-4261, or e-mailed to autry.lara@epa.gov. Members of the public are invited to listen to the teleconference calls or attend the face-to-face meeting, and time permitting, will be allowed to comment on issues discussed during this and previous ELAB meetings. Those persons interested in attending should call Lara P. Autry at (919) 541-5544 to obtain teleconference information or logistics regarding the hotel for the face-to-face meeting. The number of lines for the teleconferences, however, are limited and will be distributed on a first come, first serve basis. Preference will be given to a group wishing to attend over a request from an individual.

Paul Gilman,
Assistant Administrator, Office of Research and Development.

[FR Doc. 04-15619 Filed 7-8-04; 8:45 am]

BILLING CODE 6560-50-P